ENVIRONMENTAL PROTECTION AGENCY

[EPA-HQ-OECA-2005-0067; FRL-8194-5]

Agency Information Collection Activities; Submission to OMB for Review and Approval; Comment Request; NESHAP for Clay Ceramics Manufacturing, EPA ICR Number 2023.03, OMB Control Number 2060-0513

AGENCY: Environmental Protection Agency (EPA).

ACTION: Notice.

SUMMARY: In compliance with the Paperwork Reduction Act (44 U.S.C. 3501 et seq.), this document announces that an Information Collection Request (ICR) has been forwarded to the Office of Management and Budget (OMB) for review and approval. This is a request to renew an existing approved collection. The ICR, which is abstracted below, describes the nature of the collection and the estimated burden and cost.

DATES: Additional comments may be submitted on or before August 10, 2006.

ADDRESSES: Submit your comments, referencing docket ID number EPA-HQ-OECA-2005-0067, to (1) EPA online using http://www.regulations.gov (our preferred method), or by e-mail to: docket.oeca@epa.gov, or by mail to: EPA Docket Center (EPA/DC), Environmental Protection Agency, Enforcement and Compliance Docket and Information Center, mail code 2201T, 1200 Pennsylvania Avenue, NW., Washington, DC 20460, and (2) OMB at: Office of Information and Regulatory Affairs, Office of Management and Budget (OMB), Attention: Desk Officer for EPA, 725 17th Street, NW., Washington, DC 20503.

FOR FURTHER INFORMATION CONTACT: Learia Williams, Compliance Assessment and Media Programs Division (CAMPD), Office of Compliance, (Mail Code 2223A), Environmental Protection Agency, 1200 Pennsylvania Avenue, NW., Washington, DC 20460; telephone number: (202) 564-4113; fax number: (202) 564-0050; e-mail address: williams.learia@epa.gov.

SUPPLEMENTARY INFORMATION: EPA has submitted the following ICR to OMB for review and approval according to the procedures prescribed in 5 CFR 1320.12. On September 21, 2005 (70 FR 55368), EPA sought comments on this ICR pursuant to 5 CFR 1320.8(d). EPA received no comments. Any additional comments on this ICR should be submitted to EPA and OMB within 30 days of this notice.

EPA has established a public docket for this ICR under docket ID number EPA-HQ-OECA-2005-0067, which is available for public viewing online at http://www.regulations.gov, in person viewing at the Enforcement and Compliance Docket in the EPA Docket Center (EPA/DC), EPA West, Room B102, 1301 Constitution Avenue, NW., Washington, DC. The EPA Docket Center Public Reading Room is open from 8:30 a.m. to 4:30 p.m., Monday through Friday, excluding legal holidays. The telephone number for the Reading Room is (202) 566-1744, and the telephone number for the Enforcement and Compliance Docket is (202) 566-1927.

Use EPA's electronic docket and comment system at http://www.regulations.gov, to submit or view public comments, access the index listing of the contents of the docket, and to access those documents in the docket that are available electronically. Once in the system, select “docket search,” then key in the docket ID number identified above. Please note that EPA's policy is that public comments, whether submitted electronically, or in paper, will be made available for public viewing at http://www.regulations.gov, as EPA receives them and without change, unless the comment contains copyrighted material, Confidential Business Information, or other information whose public disclosure is restricted by statute. For further information about the electronic docket, go to http://www.regulations.gov.

Title: NESHAP for Clay Ceramics Manufacturing.

ICR Numbers: EPA ICR Number 2023.03, OMB Control Number 2060-0513.

ICR Status: This ICR is scheduled to expire on June 30, 2006. Under OMB regulations, the Agency may continue to conduct or sponsor the collection of information while this submission is pending at OMB. An Agency may not conduct or sponsor, and a person is not required to respond to a request for collection of information unless it displays a currently valid OMB control number. The OMB control numbers for EPA's regulations in title 40 of the CFR, after appearing in the Federal Register when approved, are listed in 40 CFR part 9 and 48 CFR Chapter 15 and are displayed either by publication in the Federal Register, or by other appropriate means, such as on the related collection instrument, or form, if applicable. The display of OMB control numbers in certain EPA regulations is consolidated in 40 CFR part 9.

Abstract: The National Emission Standards for Hazardous Air Pollutants (NESHAP) for Clay Ceramics Manufacturing were proposed on July 22, 2002, and promulgated on May 16, 2003. These standards apply to each new and existing clay ceramic manufacturing facility that manufactures pressed floor tile, pressed wall tile, other pressed tiles, or sanitaryware (e.g., sinks and toilets). Clay ceramics facilities typically form, dry, and fire tile or sanitaryware products that are composed of clay, shale, and various additives. Glazes are applied to some tile and sanitaryware products. The predominant hazardous air pollutants (HAP) emitted from clay ceramics manufacturing facilities include hydrogen fluoride (HF), hydrogen chloride (HCl), and metals (antimony, arsenic, beryllium, cadmium, chromium, cobalt, mercury, manganese, nickel, lead, and selenium).

Owners, or operators of the affected facilities must make the required initial notifications, performance tests, and periodic reports. They also are required to maintain records of the occurrence and duration of any startup, shutdown, or malfunction in the operation of an affected facility, or any period during which the monitoring system is inoperative. These notifications, reports, and records are essential in determining compliance and are required of all affected facilities subject to NESHAP. Respondents also are required to submit semiannual reports.

Any owner, or operator subject to the provisions of this part must maintain a file of these measurements and retain the file for at least five years following the collection of such measurements, maintenance reports, and records. All reports are sent to the delegated state or local authority. In the event that there is no such delegated authority, the reports are sent directly to the appropriate EPA regional office.

Burden Statement: The annual public reporting and recordkeeping burden for this collection of information is estimated to average 17 hours per response. Burden means the total time, effort, or financial resources expended by persons to generate, maintain, retain, or disclose or provide information to or for a Federal agency. This includes the time needed to review instructions; develop, acquire, install, and utilize technology and systems for the purposes of collecting, validating, and verifying information, processing and maintaining information, and disclosing and providing information; adjust the existing ways to comply with any previously applicable instructions and requirements which have subsequently changed; train personnel to be able to respond to a collection of information; search data sources; complete and review the collection of information; and transmit or otherwise disclose the information.

Respondents/Affected Entities: Clay ceramics manufacturing facilities.

Estimated Number of Respondents: 10.

Frequency of Response: On occasion, semiannually and initially.

Estimated Total Annual Hour Burden: 527.

Estimated Total Annual Cost: $3,000 (rounded) includes $2,468 annualized capital/startup cost and $702 O&M costs.

Changes in the Estimates: There is an increase of 342 hours in the total estimated burden currently identified in the OMB Inventory of Approved ICR Burdens. The increase in burden from the most recently approved ICR is due to the fact that the number of respondents has increased at the rate of one per year over the three-year period of this ICR. An increase in the labor rate also has contributed to the increase.

There has been an increase in the capital/startup and operations and maintenance (O&M) costs since the previous ICR. The reason for this increase is that we are accounting for nine respondents with operation and maintenance costs.

Dated: June 27, 2006.
Oscar Morales,
Director, Collection Strategies Division.

[FR Doc. E6-10837 Filed 7-10-06; 8:45 am]

BILLING CODE 6560-50-P